DEPARTMENT OF HEALTH AND HUMAN SERVICES

Centers for Disease Control and Prevention

[30Day-24-24EZ]

Agency Forms Undergoing Paperwork Reduction Act Review

In accordance with the Paperwork Reduction Act of 1995, the Centers for Disease Control and Prevention (CDC) has submitted the information collection request (ICR) titled “Workplan Templates for Ten Regional Centers to Enhance Public Health Preparedness and Response” to the Office of Management and Budget (OMB) for review and approval. CDC previously published a “Proposed Data Collection Submitted for Public Comment and Recommendations” notice on May 19, 2023 to obtain comments from the public and affected agencies. CDC received one comment related to the previous notice. This notice serves to allow 30 days for public and affected agency comments on new and updated information collection instruments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Workplan Templates for Ten Regional Centers to Enhance Public Health Preparedness and Response—New—Office of Readiness and Response (ORR), Centers for Disease Control and Prevention (CDC).

Background and Brief Description

Since 2001, CDC supported development implementation, evaluation, translation and dissemination of research findings, strategies, and interventions to improve public health preparedness and response systems, infrastructures, processes, and practices. This includes the long-standing PHEP cooperative agreement, CDC's Public Health Crisis Response Funding, and support for applied research and evaluation, metrics, measures, tools, and training development. In 2021, with contract support, CDC's Office of Applied Research (OAR) initiated 12 scoping reviews, six landscape analyses, and one systematic review to conduct deeper dives into topics such as trust in public health preparedness and response, emergency communications strategies with people with limited English proficiency, public health emergency preparedness and response (PHEPR) practice in rural and tribal communities, and use of health equity coordinators in incident management. The results of these reviews show great breadth in the PHEPR field as it relates to knowledge available to support current practice and highlights the need to expand knowledge to address specific gaps. These needs and gaps may differ across geographical regions and within those regions at the state or local level. To address needs to increase the uptake of evidence-based interventions, in December 2022, through section 2231 of the federal appropriations for fiscal year 2023, CDC was directed to support not fewer than 10 Centers for Public Health Emergency Preparedness and Response that are equally distributed among the geographical regions of the U.S. (referred to as the “network of centers”).

This project aims to establish up to 10 centers across the designated Health and Human Services (HHS) regions for public health preparedness and response (PHPR). The goal is to improve PHPR practices by increasing the uptake of evidence-based strategies and interventions (EBSIs) that align with the needs of the communities involved. This will be achieved through: (1) the development of a five-year workplan that covers known strategies or interventions, plans to implement each strategy or intervention, or the development and evaluation of new approaches in PHPR; (2) the use of a Cooperative Agreement Work Plan Template to monitor performance of activities throughout the funding period; and (3) the use of an Evaluation Work Plan Template to support evaluation of implemented work plan activities.

The Five-Year Regional Work Plan addresses: (1) focus areas and objectives across State, Tribal, Local, and Territorial (STLT) and relevant partners that would benefit from use of new or enhanced PHPR EBSIs; (2) activities to meet objectives; (3) prioritized EBSIs to implement; (4) capability and capacity of STLT health departments and relevant partners to implement and evaluate activities; and (5) regional sustainability for implementation of evidence-based practice beyond the five-year period. Contractors will collect information from the 10 HHS regional Strategic Coordinators to develop focus areas, objectives, or activities for individualized workplans to advance the implementation of EBSIs for PHPR activities.

This proposed project also includes two additional instruments including: (1) an Evaluation Work Plan Template that provides background information needed to understand approaches in evaluating selected strategies or intervention activities; and (2) a Cooperative Agreement Work Plan Template that serves as a performance monitoring instrument that supports tracking of project activities throughout the performance period.

OMB approval is sought for three years. The estimated annualized burden for this information collection is 150 hours. There is no cost to respondents other than their time.

Estimated Annualized Burden Hours
Type of respondents | Form name | Number of respondents | Number of responses per respondent | Average burden per response (in hours)
HHS Regional Strategic Coordinators | Office of Readiness and Response—Regional Centers for Public Health Preparedness and Response: Five-Year Regional Workplan Template FY2024-2030 | 10 | 1 | 5
HHS Regional Strategic Coordinators | Office of Readiness and Response—Evaluation Work Plan Template | 10 | 1 | 8
HHS Regional Strategic Coordinators | Office of Readiness and Response—Cooperative Agreement Work Plan | 10 | 1 | 2

Jeffrey M. Zirger,
Lead, Information Collection Review Office, Office of Public Health Ethics and Regulations, Office of Science, Centers for Disease Control and Prevention.

[FR Doc. 2024-08592 Filed 4-22-24; 8:45 am]

BILLING CODE 4163-18-P